DEPARTMENT OF THE INTERIOR

National Park Service

[NPS-WASO-NAGPRA-NPS0035804; PPWOCRADN0-PCU00RP14.R50000]

Notice of Inventory Completion: Maine State Museum, Augusta, ME

AGENCY: National Park Service, Interior.

ACTION: Notice.

SUMMARY: In accordance with the Native American Graves Protection and Repatriation Act (NAGPRA), the Maine State Museum has completed an inventory of human remains and associated funerary objects and has determined that there is no cultural affiliation between the human remains and associated funerary objects and any Indian Tribe. The human remains and associated funerary objects were removed from Penobscot, Washington, Hancock, and Knox Counties, ME.

DATES: Disposition of the human remains and associated funerary objects in this notice may occur on or after June 8, 2023.

ADDRESSES: Dr. Paula T. Work, Curator of Systematic Collections, Maine State Museum, 83 SHS, Augusta, ME 04333-0083, telephone (207) 287-6604, email paula.work@maine.gov.

SUPPLEMENTARY INFORMATION: This notice is published as part of the National Park Service's administrative responsibilities under NAGPRA. The determinations in this notice are the sole responsibility of the Maine State Museum. The National Park Service is not responsible for the determinations in this notice. Additional information on the determinations in this notice, including the results of consultation, can be found in the inventory or related records held by the Maine State Museum.

Description

In 1926, human remains representing, at minimum, one individual were removed from Eddington Bend, ME74.8, in Penobscot County, ME. These human remains were transferred to the Maine State Museum in 1982 by the Brick Store Museum (from its W.B. Smith collection). Red Ocher grave H contained heavily burned skull and long-bone fragments belonging to an individual of indeterminate age and sex. Based on a radiocarbon date of 3,590 ±60 BP (on charcoal), these human remains date to the Archaic Period (Susquehanna Tradition). No known individual was identified. The five associated funerary objects are two pieces of ocher, one fire kit, and two mammal bones.

In 1926, human remains representing, at minimum, one individual were removed from Eddington Bend, ME74.8, in Penobscot County, ME. These human remains were transferred to the Maine State Museum in 1982 by the Brick Store Museum (from its W.B. Smith collection). Red Ocher grave J contained heavily burned tooth enamel belonging to an individual of indeterminate age and sex. Based on burial style and associated artifacts, these human remains date to the Archaic Period (4,500-3,800 BP). No known individual was identified. The three associated funerary objects are a piece of ocher, a celt, and a worked stone.

In 1926, human remains representing, at minimum, one individual were removed from Eddington Bend, ME74.8, in Penobscot County, ME. These human remains were transferred to the Maine State Museum in 1982 by the Brick Store Museum (from its W.B. Smith collection). Red Ocher grave K contained heavily burned tooth enamel belonging to an individual of indeterminate age and sex. Based on burial style and associated artifacts, these human remains date to the Archaic Period (4,500-3,800 BP). No known individual was identified. The three associated funerary objects are a piece of ocher, a piece of limonite, and a soil sample.

In 1926, human remains representing, at minimum, one individual were removed from Eddington Bend, ME74.8, in Penobscot County, ME. These human remains were transferred to the Maine State Museum in 1982 by the Brick Store Museum (from its W.B. Smith collection). Cremation pit 8 contained heavily burned skull and long-bone fragments belonging to an individual of indeterminate age and sex. Based on burial style and associated artifacts, these human remains date to the Archaic Period (3,800-3,500). No known individual was identified. The eight associated funerary objects are six celts, one scraper, and one animal bone.

In 1926, human remains representing, at minimum, one individual were removed from Eddington Bend, ME74.8, in Penobscot County, ME. These human remains were transferred to the Maine State Museum in 1982 by the Brick Store Museum (from its W.B. Smith collection). Three unprovenienced cremation samples include heavily burned skull, mandible, metacarpal or metatarsal, and long-bone fragments belonging to an individual of indeterminate age and sex. Age and sex are indeterminate. These human remains most likely date to the Archaic Period (4,500-3,500 BP). No known individual was identified. The two associated funerary objects are animal bone fragments.

On an unknown date, human remains representing, at minimum, one individual were removed from Canal Bank, Grand Lake Stream Plantation, ME94.27, in Washington County, ME. These human remains were transferred to the Maine State Museum on December 8, 1982, by the Maine Historic Preservation Commission (from the Ed Brown archeological collection, which had been purchased at auction). The human remains—a calcined cranial fragment—belong to a juvenile of indeterminate sex. Based on artifacts found at the site, these human remains most likely date to the Archaic Period (4,500-3,500 BP). No known individual was identified. The one associated funerary object is a piece of ocher.

On an unknown date, human remains representing, at minimum, one individual were removed from Boynton Point, Lamoine, ME43.4, in Hancock County, ME. These human remains were transferred to the Maine State Museum by Connecticut Historical Society on unknown date. The human remains—a humerus fragment—belong to an individual of indeterminate age and sex. Based on artifacts found at the site, these human remains date to the Ceramic Period. No known individual was identified. No associated funerary objects are present.

On an unknown date, human remains representing, at minimum, one individual were removed from Harbor Island, Brooklin, ME30.3, in Hancock County, ME. These human remains were donated to the Maine State Museum in 1979 by Benjamin Smith. The human remains—one molar, one premolar, and one incisor or canine—belong to an adult of indeterminate sex. These human remains most likely date to the Ceramic Period. No known individual was identified. No associated funerary objects are present.

In 1972, human remains representing, at minimum, 11 individuals were removed from the Crocker site, North Haven, ME29.81, Features 3 & 4, in Knox County, ME. These human remains were recovered during an excavation by the Maine State Museum. Feature 4 pit contained the human remains of the following 10 individuals: one infant 8-16 months old; one juvenile 2-4 years old; two juveniles 4-8 years old; one juvenile 7-11 years old; one sub-adult 16-20 years old; two adults 20-24 years old; one adult 35-40 years old and probably male; and one adult 35-40 years old and probably female. Feature 3 pit contained the human remains of one individual 40-55 years old and of indeterminate sex. Based on a radiocarbon date from feature 4, these human remains date to the Ceramic Period (1,165 ±125 BP). No known individuals were identified. No associated funerary objects are present.

In 1978, human remains representing, at minimum, one individual were removed from Drinking Place Brook, Vinalhaven, ME29.151, in Knox County, ME. These human remains were recovered during an excavation by the Maine State Museum. The heavily fragmented and charred skeleton belongs to a female 18-35 years old. Based on a radiocarbon date from a bone, these human remains date to Late Ceramic Period (840 ±110). No known individual was identified. No associated funerary objects are present.

Aboriginal Land

The human remains and associated funerary objects in this notice were removed from known geographic locations. These locations are the aboriginal lands of one or more Indian Tribes. The following information was used to identify the aboriginal land: Acts of Congress that include the Maine Indian Claims Settlement Act of 1980 (Pub. L. 96-420, 94 Stat. 1785), the Houlton Band of Maliseet Indians Supplementary Claims Settlement Act of 1986 (Pub. L. 99-566, 100 Stat. 3184), and the Aroostook Band of Micmacs Settlement Act of 1991 (Pub. L. 102-171, 105 Stat. 1143); the legislative history of the above Acts of Congress; and other relevant, authoritative governmental determinations concerning the aboriginal occupation of lands by the Mi'kmaq Nation (Previously listed as Aroostook Band of Micmacs), Houlton Band of Maliseet Indians, Passamaquoddy Tribe, and the Penobscot Nation claim as their aboriginal territory.

Determinations

Pursuant to NAGPRA and its implementing regulations, and after consultation with the appropriate Indian Tribes, the Maine State Museum has determined that:

• The human remains described in this notice represent the physical remains of 20 individuals of Native American ancestry.

• The 22 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Houlton Band of Maliseet Indians; Mi'kmaq Nation (Previously listed as Aroostook Band of Micmacs); Passamaquoddy Tribe; and the Penobscot Nation.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after June 8, 2023. If competing requests for disposition are received, the Maine State Museum must determine the most appropriate requestor prior to disposition. Requests for joint disposition of the human remains and associated funerary objects are considered a single request and not competing requests. The Maine State Museum is responsible for sending a copy of this notice to the Indian Tribes identified in this notice.

Authority: Native American Graves Protection and Repatriation Act, 25 U.S.C. 3003, and the implementing regulations, 43 CFR 10.9 and 10.11.

Dated: May 3, 2023.
Melanie O'Brien,
Manager, National NAGPRA Program.

[FR Doc. 2023-09766 Filed 5-8-23; 8:45 am]

BILLING CODE 4312-52-P